DEPARTMENT OF THE INTERIOR

National Park Service

Announcement of a National Park Subsistence Resource Commission (SRC) Meeting for Gates of the Arctic National Park

AGENCY: National Park Service, Interior.

SUMMARY: The National Park Service (NPS) announces a SRC meeting within the Alaska Region for Gates of the Arctic National Park. The purpose of the meeting is to develop and continue work on subsistence hunting program recommendations and other related subsistence management issues. This meeting is open to the public and will have time allocated for public testimony. The public is welcomed to present written or oral comments to the SRC.

The NPS SRC program is authorized under Title VIII, Section 808, of the Alaska National Interest Lands Conservation Act, Pub. L. 96-487, to operate in accordance with the provisions of the Federal Advisory Committee Act. Meeting minutes will be available for public inspection approximately six weeks after the meeting.

DATES: The meeting will be held from 9 a.m. to 5 p.m. on Wednesday, April 26, 2006, and 9 a.m. to 5 p.m. on Thursday, April 27, 2006.

Location: The meeting will be held at the Coldfoot Camp Motel in Coldfoot, Alaska, telephone: (907) 474-3500.

FOR FURTHER INFORMATION CONTACT: Dave Mills, Superintendent and Fred Andersen, Subsistence Coordinator, Gates of the Arctic National Park and Preserve, 201 First Avenue Fairbanks, AK 99701, telephone: (907) 457-5752.

SUPPLEMENTARY INFORMATION: SRC meeting location and dates may need to be changed based on weather or local circumstances. Notice of SRC meetings will be published in local newspapers and announced on local radio stations prior to the meeting dates. The agendas for each meeting include the following:

1. Call to order (SRC Chair).

2. SRC Roll Call and Confirmation of Quorum.

3. SRC Chair and Superintendent's Welcome and Introductions.

4. Review and Approve Agenda.

5. Review and adopt minutes from last meeting.

6. Status of SRC Membership.

7. Commission Member Reports.

8. Superintendent and NPS Staff Reports.

9. Federal Subsistence Board Update.

10. New Business.

11. Agency and Public Comments.

12. SRC Work Session. Prepare correspondence and hunting program recommendations.

13. Set time and place of next SRC meeting.

14. Adjournment.

Victor Knox,
Acting Regional Director.

[FR Doc. E6-6157 Filed 4-24-06; 8:45 am]

BILLING CODE 4312-HK-P